FEDERAL ELECTION COMMISSION

Sunshine Act Meeting

TIME AND DATE: Wednesday, November 10, 2021 at 10:00 a.m.

PLACE: Virtual meeting. Note: Because of the COVID-19 pandemic, we will conduct the open meeting virtually. If you would like to access the meeting, see the instructions below.

STATUS: This meeting will be open to the public. To access the virtual meeting, go to the commission's website www.fec.gov and click on the banner to be taken to the meeting page.

MATTERS TO BE CONSIDERED:

Draft Advisory Opinion 2021-12: Congressman Adam Schiff and Schiff for Congress

Draft Advisory Opinion 2021-10: Retail Benefits, Inc.

Draft Advisory Opinion 2021-11: DSCC and DCCC

Management and Administrative Matters

CONTACT PERSON FOR MORE INFORMATION: Judith Ingram, Press Officer. Telephone: (202) 694-1220.

Authority: Government in the Sunshine Act, 5 U.S.C. 552b.

Laura E. Sinram,
Acting Secretary and Clerk of the Commission.

[FR Doc. 2021-24157 Filed 11-2-21; 11:15 am]

BILLING CODE 6715-01-P